FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 15, 2018.

A. Federal Reserve Bank of St. Louis (David L. Hubbard, Senior Manager) P.O. Box 442, St. Louis, Missouri 63166-2034. Comments can also be sent electronically to Comments.applications@stls.frb.org:

1. J. Chester Porter Trust Fund A, and J. Chester Porter Trust Fund B, both of Shepherdsville, Kentucky, Jack Chester Porter, Taylorsville, Kentucky, and Jennifer Elizabeth Porter, Mount Washington, Kentucky, as trustees: To retain shares of Porter Bancorp, Inc., Louisville, Kentucky, and thereby retain shares of Limestone Bank, Inc., Louisville, Kentucky

Board of Governors of the Federal Reserve System, April 20, 2018.
Ann Misback,
Secretary of the Board.

[FR Doc. 2018-08691 Filed 4-24-18; 8:45 am]

BILLING CODE 6210-01-P